DEPARTMENT OF THE INTERIOR

National Park Service

Final Environmental Impact Statement and General Management Plan for Crater Lake National Park, Douglas, Jackson & Klamath Counties, Oregon; Notice of Approval of Record of Decision

Summary: Pursuant to section 102(2)(C) of the National Environmental Policy Act of 1969 (Pub. L. 91-190, as amended) and the regulations promulgated by the Council on Environmental Quality (40 CFR 1505.2), the Department of the Interior, National Park Service has prepared and approved a Record of Decision for the Final Environmental Impact Statement and General Management Plan, Crater Lake National Park. The new GMP replaces the 1977 Master Plan, and will serve as a blueprint for guiding operations, resource protection, and visitor services in the park for the next 10-15 years. The requisite no-action “wait period” was initiated June 10, 2005, with the Environmental Protection Agency's Federal Register notification of the filing of the Final Environmental Impact Statement (FEIS).

Decision: As soon as practical the National Park Service will begin to implement the actions and programs identified and analyzed as the Preferred Alternative (Alternative 2) contained in the FEIS. This alternative was deemed to be the “environmentally preferred” alternative. This course of action and three alternatives (including no-action) were identified and analyzed in the Final and Draft Environmental Impact Statements (the opportunity for public review of the latter was announced in the Federal Register on August 3, 2004). The full range of foreseeable environmental consequences was assessed, and appropriate mitigation measures have been identified.

Copies: Interested parties desiring to review the Record of Decision may obtain a copy by contacting the Superintendent, Crater Lake National Park, P.O. Box 7, Crater Lake, Oregon 97604; or via telephone request at (541) 594-2211.

Dated: August 31, 2005.
Jonathan B. Jarvis,
Regional Director, Pacific West Region.

[FR Doc. 05-20923 Filed 10-18-05; 8:45 am]

BILLING CODE 4312-52-M